SMALL BUSINESS ADMINISTRATION

Region I—Connecticut District Advisory Council Public Meeting

The Small Business Administration Region I Connecticut District Advisory Council, located in the geographical area of Hartford, Connecticut, will hold a public meeting at 9:00 a.m. EST on Monday, Sept. 17, 2001, at the Connecticut District Office, 330 Main Street 2nd Floor, Hartford, CT 06106, to discuss such matters as may be presented by members, staff of the Small Business Administration, or others present.

Anyone wishing to make an oral presentation to the Board must contact Marie A. Record, District Director, in writing by letter or fax no later than August 20, 2001, in order to be put on the agenda. Marie A. Record, District Director, U.S. Small Business Administration 330 Main Street, 2nd Floor Hartford, Connecticut 06106-1800 (860) 240-4670 phone (860) 240-4659 fax.

Steve Tupper,
Committee Management Officer.

[FR Doc. 01-21349 Filed 8-22-01; 8:45 am]

BILLING CODE 8025-01-P